DEPARTMENT OF ENERGY

Federal Energy Regulatory Commission

Combined Notice of Filings #1

March 23, 2009.

Take notice that the Commission received the following electric corporate filings:

Docket Numbers: EC09-60-000.

Applicants: Midland Cogeneration Venture Limited Partnership.

Description: Application of Midland Cogeneration Venture Limited Partnership for Section 203 Authorization for the Disposition of Facilities and Request for Expedited Consideration and Confidential Treatment.

Filed Date: 03/20/2009.

Accession Number: 20090320-5085.

Comment Date: 5 p.m. Eastern Time on Friday, April 3, 2009.

Take notice that the Commission received the following electric rate filings:

Docket Numbers: ER98-2640-031; ER01-205-033.

Applicants: Northern States Power Company-Wisconsin; Xcel Energy Services Inc.

Description: Errata to Market-based Rate Authorization Triennial Market Power Analysis of Xcel Energy Services Inc. for Northern States Power Company (Minnesota) and Northern States Power Company (Wisconsin).

Filed Date: 03/20/2009.

Accession Number: 20090320-5013.

Comment Date: 5 p.m. Eastern Time on Friday, April 10, 2009.

Docket Numbers: ER06-629-005.

Applicants: California Independent System Operator Corporation.

Description: California Independent System Operator Corporation submits revisions to its Small Generator Interconnection Procedures in compliance with the Commission's 3/3/09 Order.

Filed Date: 03/20/2009.

Accession Number: 20090323-0100.

Comment Date: 5 p.m. Eastern Time on Friday, April 10, 2009.

Docket Numbers: ER06-630-004.

Applicants: California Independent System Operator Corporation.

Description: California Independent System Operator Corporation et al. submit revisions to their pro forma Small Generator Interconnection Agreement.

Filed Date: 03/20/2009.

Accession Number: 20090323-0099.

Comment Date: 5 p.m. Eastern Time on Friday, April 10, 2009.

Docket Numbers: ER09-486-001.

Applicants: Ashtabula Wind, LLC.

Description: Ashtabula Wind, LLC submits their Common Facilities Agreement with Otter Tail Corporation for the OTP Project dated 10/9/08 designated as Rate Schedule FERC 1, in compliance with FERC's 2/19/09 Order.

Filed Date: 03/20/2009.

Accession Number: 20090323-0101.

Comment Date: 5 p.m. Eastern Time on Friday, April 10, 2009.

Docket Numbers: ER09-704-001.

Applicants: Carolina Power & Light Company.

Description: Carolina Power & Light Company submits the clean as well redlined copies of the corrected 2/10/09 filing of a Standard Large Generator Interconnection Agreement with North Carolina Electric Member Corp.

Filed Date: 03/19/2009.

Accession Number: 20090320-0090.

Comment Date: 5 p.m. Eastern Time on Thursday, April 9, 2009.

Docket Numbers: ER09-759-001.

Applicants: E. ON U.S. LLC.

Description: E.ON U.S. submits removal of SPP as signatory to the Agreements does not affect the division of functional responsibilities under the ITO agreement etc.

Filed Date: 03/17/2009.

Accession Number: 20090317-0266.

Comment Date: 5 p.m. Eastern Time on Tuesday, April 7, 2009.

Docket Numbers: ER09-864-000.

Applicants: ISO New England Inc.; New England Power Pool.

Description: ISO New England Inc and New England Power Pool submits Installed Capacity Requirements for the 2009/2010 Capability Year.

Filed Date: 03/19/2009.

Accession Number: 20090320-0092.

Comment Date: 5 p.m. Eastern Time on Thursday, April 9, 2009.

Docket Numbers: ER09-865-000.

Applicants: Allegheny Energy Supply Company, LLC.

Description: Allegheny Energy Supply Company, LLC request for authorization to make wholesale power sales to Potomac Edison Co pursuant to a master Full Requirements Service Agreement dated 10/22/08 etc.

Filed Date: 03/19/2009.

Accession Number: 20090320-0094.

Comment Date: 5 p.m. Eastern Time on Thursday, April 9, 2009.

Docket Numbers: ER09-866-000.

Applicants: Allegheny Energy Supply Company, LLC.

Description: Allegheny Energy Supply Company, LLC request authorization to make wholesale power sales to Potomac Edison Company pursuant to the terms of a master Full Requirements Service Agreement etc.

Filed Date: 03/19/2009.

Accession Number: 20090320-0093.

Comment Date: 5 p.m. Eastern Time on Thursday, April 9, 2009.

Docket Numbers: ER09-867-000.

Applicants: Carolina Power & Light Company.

Description: Carolina Power and Light Co. submits a Network Integration Transmission Service and Network Operating Agreement.

Filed Date: 03/20/2009.

Accession Number: 20090323-0036.

Comment Date: 5 p.m. Eastern Time on Friday, April 10, 2009.

Docket Numbers: ER09-868-000.

Applicants: WSPP Inc.

Description: WSPP Inc submits revised pages to the WSPP Agreement to incorporate a cost-based Rate Schedule 6 into the Agreement pursuant to the Commission's 3/3/09 Order.

Filed Date: 03/20/2009.

Accession Number: 20090323-0102.

Comment Date: 5 p.m. Eastern Time on Friday, April 10, 2009.

Docket Numbers: ER09-869-000.

Applicants: Ameren Services Company.

Description: Central Illinois Public Service Company et al. submits an executed service agreement for Wholesale Distribution Service with Illinois Municipal Electric Agency etc.

Filed Date: 03/20/2009.

Accession Number: 20090323-0103.

Comment Date: 5 p.m. Eastern Time on Friday, April 10, 2009.

Docket Numbers: ER09-870-000.

Applicants: Ameren Energy Marketing Company.

Description: Ameren Energy Marketing Company submits amended sheets to its Market-Based Rate Tariff, effective 6/1/09.

Filed Date: 03/20/2009.

Accession Number: 20090323-0104.

Comment Date: 5 p.m. Eastern Time on Friday, April 10, 2009.

Docket Numbers: ER09-871-000.

Applicants: Falesafe, Inc.

Description: Portland General Electric Company submits Fale-Safe's First Revised Rate Schedule FERC 1, a Long Term Power Sale Agreement with San Diego Gas & Electric Company.

Filed Date: 03/23/2009.

Accession Number: 20090323-0111.

Comment Date: 5 p.m. Eastern Time on Monday, April 13, 2009.

Docket Numbers: ER09-872-000.

Applicants: Midwest Independent Transmission System Operator, Inc.

Description: Midwest Independent Transmission System Operator, Inc submits Second Revised Sheet 362 to FERC Electric Tariff, Fourth Revised Volume 1 effective 5/19/09.

Filed Date: 03/20/2009.

Accession Number: 20090323-0105.

Comment Date: 5 p.m. Eastern Time on Friday, April 10, 2009.

Docket Numbers: ER09-873-000.

Applicants: ISO New England Inc.; New England Power Pool

Description: ISO New England Inc & the New England Power Pool submits Third Revised Sheet 7245 et al. to FERC Electric Tariff 3 et al. effective 7/1/09.

Filed Date: 03/20/2009.

Accession Number: 20090323-0106.

Comment Date: 5 p.m. Eastern Time on Friday, April 10, 2009.

Take notice that the Commission received the following electric securities filings:

Docket Numbers: ES09-13-000.

Applicants: PJM Interconnection L.L.C.

Description: PJM Interconnection L.L.C. supplements its section 204 application.

Filed Date: 03/20/2009.

Accession Number: 20090320-5076.

Comment Date: 5 p.m. Eastern Time on Monday, March 30, 2009.

Docket Numbers: ES09-14-000.

Applicants: PJM Interconnection L.L.C.

Description: PJM Interconnection L.L.C. submits supplemental Information to its January 30, 2009 application.

Filed Date: 03/20/2009.

Accession Number: 20090320-5077.

Comment Date: 5 p.m. Eastern Time on Monday, March 30, 2009.

Take notice that the Commission received the following open access transmission tariff filings:

Docket Numbers: OA08-19-001; OA08-63-001.

Applicants: Ohio Valley Electric Corporation.

Description: OATT of Ohio Valley Electric Corporation.

Filed Date: 03/20/2009.

Accession Number: 20090320-5028.

Comment Date: 5 p.m. Eastern Time on Friday, April 10, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-6980 Filed 3-27-09; 8:45 am]

BILLING CODE 6717-01-P